DEPARTMENT OF TRANSPORTATION

Federal Aviation Administration

14 CFR Part 39

[Docket No. FAA-2014-0624; Directorate Identifier 2014-NM-005-AD; Amendment 39-18072; AD 2015-02-05]

RIN 2120-AA64

Airworthiness Directives; The Boeing Company Airplanes

AGENCY: Federal Aviation Administration (FAA), DOT.

ACTION: Final rule.

SUMMARY: We are adopting a new airworthiness directive (AD) for all The Boeing Company Model 717-200 airplanes; Model DC-10-10, DC-10-10F, DC-10-15, DC-10-30, DC-10-30F (KC-10A and KDC-10), DC-10-40 and DC-10-40F airplanes; Model MD-10-10F and MD-10-30F airplanes; Model DC-9-81 (MD-81), DC-9-82 (MD-82), DC-9-83 (MD-83), and DC-9-87 (MD-87) airplanes; Model MD-88 airplanes; and Model MD-90-30 airplanes. This AD was prompted by reports of latent air data transducer degradation. This AD requires revising the maintenance or inspection program, as applicable, to incorporate special compliance items (SCIs). We are issuing this AD to prevent erroneous air data information, which could lead to a mid-air collision within reduced vertical separation minimum (RVSM) airspace.

DATES: This AD is effective March 5, 2015.

The Director of the Federal Register approved the incorporation by reference of certain publications listed in this AD as of March 5, 2015.

ADDRESSES: For service information identified in this AD, contact Boeing Commercial Airplanes, Attention: Data & Services Management, 3855 Lakewood Boulevard, MC D800-0019, Long Beach, CA 90846-0001; telephone 206-544-5000, extension 2; fax 206-766-5683; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0624; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Jeffrey W. Palmer, Aerospace Engineer, Systems and Equipment Branch, ANM-130L, Los Angeles Aircraft Certification Office (ACO), FAA, 3960 Paramount Boulevard, Lakewood, CA 90712-4137; phone: 562-627-5351; fax: 562-627-5210; email: jeffrey.w.palmer@faa.gov.

SUPPLEMENTARY INFORMATION:

Discussion

We issued a notice of proposed rulemaking (NPRM) to amend 14 CFR part 39 by adding an AD that would apply to all The Boeing Company Model 717-200 airplanes; Model DC-10-10, DC-10-10F, DC-10-15, DC-10-30, DC-10-30F (KC-10A and KDC-10), DC-10-40 and DC-10-40F airplanes; Model MD-10-10F and MD-10-30F airplanes; Model DC-9-81 (MD-81), DC-9-82 (MD-82), DC-9-83 (MD-83), and DC-9-87 (MD-87) airplanes; Model MD-88 airplanes; and Model MD-90-30 airplanes. The NPRM published in the Federal Register on September 12, 2014 (79 FR 54672). The NPRM was prompted by reports of latent air data transducer degradation. The NPRM proposed to require revising the maintenance or inspection program, as applicable, to incorporate SCIs. We are issuing this AD to correct the unsafe condition on these products.

Comments

We gave the public the opportunity to participate in developing this AD. We have considered the comment received. Boeing stated that it concurred with the NPRM (79 FR 54672, September 12, 2014).

Conclusion

We reviewed the relevant data, considered the comments received, and determined that air safety and the public interest require adopting this AD as proposed, except for minor editorial changes. We have determined that these minor changes:

• Are consistent with the intent that was proposed in the NPRM (79 FR 54672, September 12, 2014) for correcting the unsafe condition; and

• Do not add any additional burden upon the public than was already proposed in the NPRM (79 FR 54672, September 12, 2014).

Related Service Information

We reviewed Boeing Report No. MDC-02K1003, Trijet Special Compliance Item (SCI) Report 34-4, “Functional Test of the Captain and First Officer's Altimeter,” Revision K, dated February 1, 2013; and Boeing Report No. MDC-92K9145, Twinjet SCI Report 34-1—“Functional Test of the Captain and First Officer's Altimeter,” Revision M, dated February 5, 2013. The service information describes procedures for a functional test of the captain and first officer's altimeters. You can find this information at http://www.regulations.gov by searching for and locating Docket No. FAA-2014-0624.

Costs of Compliance

We estimate that this AD affects 716 airplanes of U.S. registry.

We estimate the following costs to comply with this AD:

Estimated Costs
Action | Labor cost | Parts cost | Cost per product | Cost on U.S. operators
Maintenance or inspection program revision | 1 work-hour × $85 per hour = $85 | $0 | $85 | $60,860

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-02-05 The Boeing Company: Amendment 39-18072; Docket No. FAA-2014-0624; Directorate Identifier 2014-NM-005-AD.

(a) Effective Date

This AD is effective March 5, 2015.

(b) Affected ADs

None.

(c) Applicability

This AD applies to all The Boeing Company airplanes identified in paragraphs (c)(1), (c)(2), and (c)(3) of this AD, certificated in any category.

(1) The Boeing Company Model 717-200 airplanes.

(2) The Boeing Company Model DC-10-10, DC-10-10F, DC-10-15, DC-10-30, DC-10-30F (KC-10A and KDC-10), DC-10-40, and DC-10-40F airplanes; and Model MD-10-10F and MD-10-30F airplanes.

(3) The Boeing Company Model DC-9-81 (MD-81), DC-9-82 (MD-82), DC-9-83 (MD-83), and DC-9-87 (MD-87) airplanes; Model MD-88 airplanes; and Model MD-90-30 airplanes.

(d) Subject

Air Transport Association (ATA) of America Code 34, Navigation.

(e) Unsafe Condition

This AD was prompted by reports of latent air data transducer degradation. We are issuing this AD to prevent erroneous air data information, which could lead to a mid-air collision within reduced vertical separation minimum (RVSM) airspace.

(f) Compliance

Comply with this AD within the compliance times specified, unless already done.

(g) Maintenance or Operations Program Revision

Within 30 days after the effective date of this AD, revise the maintenance or inspection program, as applicable, by incorporating the information specified in paragraphs (g)(1), (g)(2), or (g)(3) of this AD, as applicable. The initial compliance time for the tasks is within 18 months after the effective date of this AD.

(1) For Model 717-200 airplanes; Model DC-9-81 (MD-81), DC-9-82 (MD-82), DC-9-83 (MD-83), and DC-9-87 (MD-87) airplanes; Model MD-88 airplanes; and Model MD-90-30 airplanes: Incorporate Special Compliance Item (SCI) 34-1, “Functional Test of the Captain and First Officer's Altimeter, of Appendix A—“SCIs” to Boeing Report No. MDC-92K9145, “Twinjet Special Compliance Items Report,” Revision M, dated February 5, 2013.

(2) For Model DC-10-10, DC-10-10F, DC-10-15, DC-10-30, DC-10-30F (KC-10A and KDC-10), DC-10-40 and DC-10-40F airplanes: Incorporate SCI 34-4, “Functional Test of the Captain and First Officer's Altimeter,” of Appendix A—“SCIs” to Boeing Report No. MDC-02K1003, “Trijet Special Compliance Item Report,” Revision K, dated February 1, 2013.

(3) For Model MD-10-10F and MD-10-30F airplanes: Incorporate SCI 34-4, “Functional Test of the Captain and First Officer's Altimeter, of Appendix A—“SCIs” to Boeing Report No. MDC-02K1003, “Trijet Special Compliance Item Report,” Revision K, dated February 1, 2013.

(h) No Alternative Actions and Intervals

After accomplishment of the revision required by paragraph (g) of this AD, no alternative actions (e.g., inspections) or intervals may be used unless the actions or intervals are approved as an alternative method of compliance (AMOC) in accordance with the procedures specified in paragraph (i) of this AD.

(i) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j) of this AD. Information may be emailed to: 9-ANM-LAACO-AMOC-REQUESTS@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Los Angeles ACO, to make those findings. For a repair method to be approved, the repair must meet the certification basis of the airplane, and the approval must specifically refer to this AD.

(j) Related Information

For more information about this AD, contact Jeffrey W. Palmer, Aerospace Engineer, Systems and Equipment Branch, ANM-130L, Los Angeles ACO, FAA, 3960 Paramount Boulevard, Lakewood, CA 90712-4137; phone: 562-627-5351; fax: 562-627-5210; email: jeffrey.w.palmer@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Special Compliance Item (SCI) 34-4, “Functional Test of the Captain and First Officer's Altimeter,” of Appendix A—“SCIs,” to Boeing Report No. MDC-02K1003, “Trijet Special Compliance Item Report,” Revision K, dated February 1, 2013. There is no page “i” identified in this document.

(ii) Special Compliance Item (SCI) 34-1—“Functional Test of the Captain and First Officer's Altimeter,” of Appendix A “SCIs,” to Boeing Report No. MDC-92K9145, Twinjet Special Compliance Item Report, Revision M, dated February 5, 2013.

(3) For Boeing service information identified in this AD, contact Boeing Commercial Airplanes, Attention: Data & Services Management, 3855 Lakewood Boulevard, MC D800-0019, Long Beach, CA 90846-0001; telephone 206-544-5000, extension 2; fax 206-766-5683; Internet https://www.myboeingfleet.com.

(4) You may view this referenced service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 11, 2015.
Jeffrey E. Duven,
Manager, Transport Airplane Directorate, Aircraft Certification Service.

[FR Doc. 2015-00999 Filed 1-28-15; 8:45 am]

BILLING CODE 4910-13-P